DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and comment. The nature of the information collection is described as well as its expected burden. The Federal Register Notice with a 60-day comment period soliciting comments on the following collection of information was published on April 10, 2002. No comments were received.

DATES: Comments must be submitted on or before August 19, 2002.

FOR FURTHER INFORMATION CONTACT: Kenneth Kline, Maritime Administration, 400 Seventh Street, Southwest, Washington, DC. Telephone: 202-366-5744; Fax: 202-366-7901 or e-mail: kenneth.kline@marad.dot.gov. Copies of this collection can also be obtained from that office.

SUPPLEMENTARY INFORMATION: Maritime Administration (MARAD).

Title: Application for Construction Reserve Fund and Annual Statements.

OMB Control Number: 2133-0032.

Type of Request: Extension of currently approved collection.

Affected Public: Owners or operators of vessels in the U.S. domestic or foreign commerce.

Form(s): None.

Abstract: In accordance with section 511 of the Merchant Marine Act of 1936, as amended, all citizens who own or operate vessels in the U.S. domestic or foreign commerce and desire “tax” benefits under the Construction Reserve Fund (CRF) program, are required to submit to MARAD an application for benefits. The annual statement provided to MARAD officials sets forth a detailed analysis of the CRF when each income tax return is filed. The application is required in order for MARAD to determine whether the applicant is qualified for the benefits, and the annual statements are required in order for MARAD to assure that the requirements of the program are being satisfied.

Annual Estimated Burden Hours: 189 hours.

Addresses: Send comments to the Office of Information and Regulatory Affairs, Office of Management and Budget, 725 17th Street, NW., Washington, DC 20503, Attention MARAD Desk Officer.

Comments Are Invited On: (a) Whether the proposed collection of information is necessary for the proper performance of the functions of the agency, including whether the information will have practical utility; (b) the accuracy of the agency's estimate of the burden of the proposed information collection; (c) ways to enhance the quality, utility and clarity of the information to be collected; and (d) ways to minimize the burden of the collection of information on respondents, including the use of automated collection techniques or other forms of information technology.

A comment to OMB is best assured of having its full effect if OMB receives it within 30 days of publication.

Issued in Washington, DC, on July 15, 2002.
Joel C. Richard,
Secretary, Maritime Administration.

[FR Doc. 02-18302 Filed 7-18-02; 8:45 am]

BILLING CODE 4910-81-P